DEPARTMENT OF VETERANS AFFAIRS

Veterans' Family, Caregiver, and Survivor Advisory Committee, Notice of Meeting

The Department of Veterans Affairs (VA) gives notice under the Federal Advisory Committee Act that the Veterans' Family, Caregiver, and Survivor Advisory Committee will meet on October 23-24, 2017. The meeting will be held in the Sonny Montgomery Conference Room 230 at 810 Vermont Ave NW., Washington, DC 20420. Both sessions will begin at 9:00 a.m. (EST) each day. The session on October 23 will adjourn at approximately 5:00 p.m. The session on the October 24 will adjourn at approximately 2:00 p.m. The meetings are open to the public.

The purpose of the Committee is to advise the Secretary of Veterans Affairs on matters related to: Veterans' families, caregivers, and survivors across all generations, relationships, and Veterans status; the use of VA care and benefits services by Veterans' families, caregivers, and survivors, and possible expansion of such care and benefits services; Veterans' family, caregiver, and survivor experiences; VA policies, regulations, and administrative requirements related to the transition of Servicemembers from the Department of Defense (DoD) to enrollment in VA that impact Veterans' families, caregivers, and survivors; and factors that influence access to, quality of, and accountability for services and benefits for Veterans' families, caregivers, and survivors.

On October 23 and October 24, the agenda will include information briefings from the three VA Administrations and special program offices, as well as opening remarks from VA senior leaders including the Chief Veterans Experience Officer and the Committee Chair. Committee members will also discuss the committee work plan and future activities. Public comments will be received at 9:00 a.m. on October 24, 2017.

Individuals wishing to speak should contact Laureen Barone at laureen.barone@va.gov and are requested to submit a 1-2 page summary of their comments for inclusion in the official meeting record. In the interest of time, each speaker will be held to a 5 minute time limit.

Because the meeting is being held in a government building, a photo I.D. must be presented at the Guard's Desk as a part of the clearance process. To prevent delays, you should allow an additional 30 minutes before the meeting begins to clear security. If you are interested in attending, please submit your name to Ms. Laureen Barone by October 19, 2017 to help expedite the security clearance process. Any member of the public seeking additional information should contact Ms. Barone at (716) 834-9200 extension 5350 or at laureen.barone@va.gov.

Dated: September 14, 2017.
Jelessa M. Burney,
Federal Advisory Committee Management Officer.

[FR Doc. 2017-19896 Filed 9-18-17; 8:45 am]

BILLING CODE P